DEPARTMENT OF HOMELAND SECURITY

Transportation Security Administration

RIN 1652-ZA18

TSA PreCheck® Application Program Fee

AGENCY: Transportation Security Administration, DHS.

ACTION: Notice.

SUMMARY: The Transportation Security Administration (TSA) administers the TSA PreCheck® Application Program, in which individuals determined to be low-risk travelers may receive expedited airport security screening. To apply for TSA Precheck® eligibility, individuals submit biometric and biographic information that TSA uses to verify identity and conduct a security threat assessment and submit fees to cover the costs associated with the program. TSA announces in this Notice that, under certain circumstances, the membership renewal fee will be reduced by $11.25 due to changes related to the Federal Bureau of Investigation (FBI) fee for criminal history checks.

DATES: This notice is effective November 12, 2024.

FOR FURTHER INFORMATION CONTACT: Anne Walbridge, Transportation Security Administration, 6595 Springfield Center Drive, Springfield, VA 20598-6047; by phone at (240) 568-5372, or email at TSAPrecheckEnrollment@tsa.dhs.gov.

SUPPLEMENTARY INFORMATION:

Availability of Notice Document

You can get an electronic copy using the internet by—

(1) Accessing the Government Printing Office's web page at https://www.gpo.gov/fdsys/browse/collection.action?collectionCode=FR to view the daily published Federal Register edition; or accessing the “Search the Federal Register by Citation” in the “Related Resources” column on the left, if you need to do a Simple or Advanced search for information, such as a type of document that crosses multiple agencies or dates; or

(2) Visiting TSA's Security Regulations web page at https://www.tsa.gov and accessing the link for “Stakeholders” at the top of the page, then the link “Research Center” in the left column.

In addition, copies are available by writing or calling the individual in the FOR FURTHER INFORMATION CONTACT section.

I. Background

A. Overview of TSA PreCheck® Application Program

The TSA PreCheck® Application Program is a voluntary, expedited security screening program connecting low-risk travelers departing from the United States with smarter security and a better air travel experience.¹ As of August 2024, there are approximately 20 million members in the TSA PreCheck® Application Program. Individuals enrolled in the TSA PreCheck® Application Program are eligible to receive expedited screening at U.S. airports. As explained in its Notice establishing the program,² membership in the TSA PreCheck® Application Program is within the sole discretion of TSA.

¹ For purpose of this document, the “TSA PreCheck® Application Program” refers to the DHS Trusted Traveler Program that TSA operates to determine if individuals are low-risk and may receive expedited screening. “TSA PreCheck®” refers to expedited screening provided by TSA.

² See Notice, 78 FR 72922 (Dec. 4, 2013).

TSA established the TSA PreCheck® Application Program in December 2013 to expand access to expedited screening to individuals who voluntarily provide information that TSA uses to determine whether the traveler is low risk.³ TSA uses biographic and biometric information the applicant provides to conduct a security threat assessment (STA) that includes review of criminal history, immigration, intelligence, and regulatory violation records. During the enrollment process, TSA requires applicants to present government-issued identity documents with a photo to prove their identity and that they are a U.S. person.

³ Id.

Following enrollment, TSA evaluates the information generated by the vetting process to determine whether the individual poses a low risk to transportation and national security. Once completed, the STA remains valid for 5 years, provided the individual continues to meet the eligibility standards. At the end of the 5-year term, individuals wishing to maintain their membership must renew it by completing a new STA and paying renewal fees.

If TSA determines that the applicant is low risk, TSA issues a Known Traveler Number (KTN) ⁴ that the individual enters when making flight reservations. Enrollment in the TSA PreCheck® Application Program and use of the associated KTN do not guarantee that an individual will receive expedited screening at airport security checkpoints. TSA retains an element of randomness to maintain unpredictability for security purposes, and travelers with valid KTNs may be selected for additional physical screening on occasion.

⁴ The Known Traveler Number is a component of Secure Flight Passenger Data, which is defined in TSA Secure Flight regulations at 49 CFR 1560.3. See also the Secure Flight regulations at 49 CFR part 1560.

An individual is ineligible for a KTN and access to TSA PreCheck® expedited screening if TSA determines the individual poses a risk to transportation or national security; has committed certain criminal acts; ⁵ does not meet the immigration status standards; ⁶ has committed regulatory violations; ⁷ or is otherwise not a low-risk traveler. TSA notifies individuals who it determines are ineligible for a KTN or whose membership in the program is revoked, in writing, and they continue to undergo standard screening at airport security checkpoints.

⁵ See 49 CFR 1572.103 for the criminal standards that apply to TSA PreCheck® applicants.

⁶ Individuals who apply for membership in the TSA PreCheck® Application Program must be U.S. citizens, U.S. Nationals, or Lawful Permanent Residents.

⁷ For instance, an individual who interferes with security screening or brings a weapon to the security checkpoint would be deemed ineligible for TSA PreCheck® expedited screening and their membership in the program may be revoked.

B. Program Fees

TSA is required by law to collect a non-refundable fee to cover the costs of operating the TSA PreCheck® Application Program.⁸ Collecting biographic and biometric information from applicants, conducting the STA, adjudicating the results of the STA, and managing the program ⁹ generate costs for TSA, the enrollment providers who TSA has selected to conduct enrollment, and the FBI who processes the fingerprint-based criminal history records check. Consistent with the statutory mandate, TSA established a fee structure for new TSA PreCheck® enrollments and renewals. The fee includes a TSA fee, an FBI fee, and an enrollment provider fee.

⁸ See sec. 540 of the DHS appropriations act of 2006, Public Law 109-90 (119 Stat. 2064, 2088-89, Oct. 18, 2005); 49 U.S.C. 114 (note).

⁹ Id.

The TSA fee recovers TSA's costs to analyze the immigration, terrorism, criminal, and regulatory violation information generated in the vetting process to determine whether applicants meet all eligibility requirements; notify applicants of TSA's determination; issue KTNs to eligible individuals; conduct research and development for innovative improvements to enrollment, expedited screening, and overall airport experience; expand the TSA PreCheck®: Touchless Identity Solution; ¹⁰ and continue to monitor databases and information to confirm that members remain low risk. The current TSA fee is $42.75.¹¹

¹⁰ For more information on the Touchless Identity Solution, visit tsa.gov/digital-id.

¹¹ If it is necessary to change this fee in the future, TSA will notify the public through publication of a Notice in the Federal Register.

The FBI fee covers the FBI's costs to compare fingerprints against the national criminal databases and return any results to TSA. This fee also includes subscription in the FBI Rap Back program, which provides TSA notification of any new criminal activity or information. The FBI determines when it is necessary to change its fee for this service and publishes a Notice of those changes in the Federal Register.¹² TSA ensures that the current FBI fee is collected during enrollment and transmitted to the FBI. The current FBI fee is $11.25.

¹² See https://www.federalregister.gov/documents/2022/08/04/2022-16668/fbis-criminal-justice-information-services-division-user-fee-schedule.

The enrollment provider fee covers the cost of the vendor's enrollment products and services to include costs to establish and maintain enrollment centers; equip and staff the centers; develop and maintain the information technology infrastructure to securely collect and transmit applicant data; and administer these services. The enrollment provider collects this fee directly from the applicant during enrollment and retains it; TSA does not ingest, transfer, or retain the enrollment provider fee.

When the TSA PreCheck® Application Program launched in 2013, the enrollment provider fee was set via contract. TSA recompeted this contract in 2019. The contract was awarded to IDEMIA and set an updated enrollment provider fee. In 2018, Congress passed the TSA Modernization Act ¹³ requiring TSA to increase the number of enrollment providers in the TSA PreCheck® program. This legislation sought to add competition, capabilities, and options to the enrollment process and provides that TSA must select at least two additional enrollment vendors to conduct enrollment under Other Transaction Agreements (OTAs) with TSA. Unlike a contract, an OTA permits the vendor to establish its fees and the services it wishes to provide, rather than having them set by TSA, which increases the opportunity for options and services for the applicants. Applicants can choose an enrollment provider based on the services it provides in addition to TSA PreCheck® enrollment. Nothing in the OTA process prevents TSA and the FBI from receiving their respective fees. TSA entered into OTAs with IDEMIA,¹⁴ Alclear, LLC and Telos Identity Management Solutions, LLC in 2020 to provide enrollment services for the TSA PreCheck® program. TSA maintains a list of the overall fees to enroll in TSA PreCheck®, by enrollment provider, at www.tsa.gov/precheck. These fees include the TSA fee, the FBI fee, and the enrollment provider fee.

¹³ TSA Modernization Act, division K—title I of the FAA Reauthorization Act sec. 1937(f), Public Law 115-254, 132 Stat. 3186 (Oct. 5, 2018).

¹⁴ IDEMIA has an OTA with TSA for the TSA PreCheck® Application Program and a contract for TSA enrollment, to include TSA PreCheck®.

II. Reduced Renewal Fee

In May 2021, TSA began subscribing TSA PreCheck® Application Program members in the FBI's Rap Back service.¹⁵ The FBI currently charges $11.25 to process fingerprints for the criminal history records check and retain them in the FBI's Next Generation Identification system. The FBI then allows TSA to subscribe individuals in Rap Back at no additional cost. Currently, the FBI permits an individual seeking to renew TSA PreCheck® membership to remain subscribed in Rap Back if their STA has not expired and the enrollment provider remains the same. In these cases, the FBI does not charge the $11.25 FBI fee.

¹⁵ Rap Back is an optional service offered by the FBI that provides authorized users with the capability to subscribe an individual to receive notification of subsequent triggering information, such as a new criminal arrest or the disposition of an old arrest, involving that individual during the term of enrollment.

TSA's contract with IDEMIA requires this $11.25 savings to be passed on to the renewing individual. Providers operating under an OTA with TSA may, but are not required, to pass this savings on to the individual. As stated above, the OTA process permits the provider to set its fees and services, which applicants may take into account when choosing a provider.

TSA will continue to maintain a current listing of the overall fees for all enrollment and renewal options at www.tsa.gov/precheck.

Dated: October 30, 2024.
Stacey Fitzmaurice,
Executive Assistant Administrator, Operations Support.

[FR Doc. 2024-25701 Filed 11-8-24; 8:45 am]

BILLING CODE 9110-05-P